DEPARTMENT OF LABOR

Employment and Training Administration

Investigations Regarding Certifications of Eligibility to Apply for Worker Adjustment Assistance

Petitions have been filed with the Secretary of Labor under section 221(a) of the Trade Act of 1974 (“the Act”) and are identified in the Appendix to this notice. Upon receipt of these petitions, the Director of the Division of Trade Adjustment Assistance, Employment and Training Administration has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 18, 2000.

Interested persons are invited to submit written comments regarding the subject matter of the investigations to the Director, Division of Trade Adjustment Assistance, at the address shown below, not later than December 18, 2000.

The petitions filed in this case are available for inspection at the Office of the Director, Division of Trade Adjustment Assistance, Employment and Training Administration, U.S. Department of Labor, Room C-5311, 200 Constitution Avenue, NW., Washington, DC 20210.

Signed at Washington, DC, this 13th day of November, 2000.
Edward A. Tomchick,
Director, Division of Trade Adjustment Assistance.

Appendix—Petitions Instituted on 11/13/2000
TA-W | Subject firm (Petitioners) | Location | Date of petition | Product(s)
38,296 | Kim Mark Hosiery Inc. (Comp) | Mount Airy, NC | 11/06/2000 | Hosiery.
38,297 | Qwik Tool Manufacturing (Wrks) | Lexington, KY | 11/06/2000 | Automotive Parts.
38,298 | JN Oil and Gas, Inc. (Comp) | Billings, MT | 10/20/2000 | Crude Oil and Natural Gas.
38,299 | Originals Bi-Judy, Inc. (Comp) | Tolleson, AZ | 10/31/2000 | Baby Bedding.
38,300 | ABB Westinghouse (Wrks) | Festus, MO | 10/17/2000 | Nuclear Fuel and Fuel Bundles.
38,301 | York International (Wrks) | Elyria, OH | 10/24/2000 | Residential Heating and Cooling Products.
38,302 | Ohpus Corp (Comp) | Florham Park, NJ | 10/25/2000 | Electronic Scales.
38,303 | CMI Industries, Inc. (Wrks) | Geneva, AL | 10/27/2000 | Unfinished Cloth.
38,304 | USR Optonix, Inc. (Comp) | Hackettstown, NJ | 10/24/2000 | Toner and Developer for Copy Machines.
38,305 | Stora Enso North America (Comp) | Wisconsin Rapid, WI | 10/31/2000 | Paper.
38,306 | Alstom Power (Comp) | Kings Mountain, NC | 11/06/2000 | Heat Recovery Steam Generators.
38,307 | Progress Lighting (Wrks) | Cowpens, SC | 10/28/2000 | Light Fixtures.
38,308 | Advanced Cast Products (USWA) | Meadville, PA | 10/25/2000 | Railroad Products, Truck Suspension.
38,309 | Virogenetics Corp. (Wrks) | Troy, NY | 10/27/2000 | Biotech Research Facility.
38,310 | ABC-NACO (BBF) | Ashland, WI | 10/24/2000 | Rail Track Switches.
38,311 | Lightnin SPX Corp (Comp) | Wytheville, VA | 10/20/2000 | Industrial Mixing Equipment.
38,312 | R and S Manufacturing (GMP) | West Chester, PA | 11/13/2000 | Electric Motors for Room Fans.
38,313 | Winn Dixie (Wrks) | Garden City, SC | 10/30/2000 | Grocery Store.
38,314 | International Security (Wrks) | Ogdensburg, NY | 10/30/2000 | Printing Ink.
38,315 | DiBon Leather Goods (Wrks) | Hackensack, NJ | 10/20/2000 | Briefcases, Portfolios, Agendas, Handbags.
38,316 | Bryant Grinder Corp. (UE) | Springfield, VT | 11/01/2000 | Internal/External Grinders.
38,317 | Vanalco Aluminum (Wrks) | Vancouver, WA | 11/01/2000 | Aluminum.
38,318 | Pyramid Mountain Lumber (Comp) | Seeley Lake, MT | 10/30/2000 | Kiln Dried Lumber.
38,319 | Hit Apparel, Inc. (Comp) | Athens, TN | 10/13/2000 | Children's Pajamas.
38,320 | American Baseball Cap (Wrks) | Friedens, PA | 10/30/2000 | Baseball Helmets.

[FR Doc. 00-31040 Filed 12-5-00; 8:45 am]

BILLING CODE 4510-30-M